DEPARTMENT OF THE INTERIOR

National Park Service

Great Sand Dunes National Park Advisory Council Meeting

AGENCY: National Park Service, DOI.

ACTION: Announcement of meeting.

SUMMARY: Great Sand Dunes National Park and Preserve announces a meeting of the Great Sand Dunes National Park Advisory Council, which was established to provide guidance to the Secretary on long-term planning for Great Sand Dunes National Park and Preserve.

DATES: The meeting date is: July 8, 2005, 9 a.m.-4:30 p.m., Mosca, Colorado.

ADDRESSES: The meeting location is: Mosca, Colorado—Great Sand Dunes National Park and Preserve Visitor Center, 11999 Highway 150, Mosca, CO 81146.

FOR FURTHER INFORMATION CONTACT: Steve Chaney, 719-378-6312.

SUPPLEMENTARY INFORMATION: At the July 8 meeting, the National Park Service will present the advisory council with draft alternatives developed for Draft General Management Plan. The council will discuss those alternatives and provide feedback to the agency. A public comment period will be held from 4:15 p.m. to 4:30 p.m.

Michael D. Snyder,
Acting Regional Director.

[FR Doc. 05-12212 Filed 6-20-05; 8:45 am]

BILLING CODE 4310-CL-P